DEPARTMENT OF HEALTH AND HUMAN SERVICES

[Document Identifier OS-0945-0008]

Agency Information Collection Request. 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before February 13, 2023.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Sherrette Funn, Sherrette.Funn@hhs.gov or (202) 264-0041. When submitting comments or requesting information, please include the document identifier 0990-New-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Collection: Reinstatement with changes.

OMB No.: 0945-0008.

Abstract: This Information Collection Request is for a reinstatement with changes to previously approved collection 0945-0008 that is expired in December 2022, titled: Assurance of Compliance, Form HHS-690, subject to minor modifications. Such an assurance is required by the federal civil rights laws enforced by the Office for Civil Rights, as described herein. One method that the federal government uses to ensure civil rights compliance is to require covered entities to submit written assurances of compliance when applying for federal financial assistance. The assurances alert covered entities of their civil rights obligations and provide the Department with a valuable enforcement tool, as a recipient's written assurance and certification documents can provide an independent contractual basis for enforcement of nondiscrimination requirements. This is for a 3year request.

Type of Respondent; Affected Public: States, certain health care providers, other persons, or entities receiving/requesting Funding.

Frequency: The Applicant provides this Assurance of Compliance when it applies for or receives new HHS funds.

Estimated Annualized Burden Hours
Type of respondent | Form name | Number of respondents | Number responses per respondent | Avg. burden/ response (in hours) | Total burden hours
States, certain health care providers, other persons, and entities | Form HHS-690 | 9595 | 1 | 4 | 38,380
Total |  |  |  |  | 38,380

Sherrette A. Funn,
Paperwork Reduction Act Reports Clearance Officer, Office of the Secretary.

[FR Doc. 2023-00558 Filed 1-12-23; 8:45 am]

BILLING CODE 4150-01-P